DEPARTMENT OF COMMERCE

International Trade Administration

[A-570-836]

Glycine from the People's Republic of China: Final Results of New Shipper Administrative Review

AGENCY: Import Administration, International Trade Administration, Department of Commerce.

ACTION: Notice of final results in the antidumping duty new shipper administrative review of glycine from the People's Republic of China.

SUMMARY: On September 7, 2000, the Department of Commerce (“Department”) published the preliminary results of the administrative review of the antidumping duty order on glycine from the People's Republic of China. This review covers one manufacturer/exporter. The period of review (“POR”) is March 1, 1999 through August 30, 1999.

Based on our analysis of the comments received, we have made changes to the margin calculation. Therefore, the final results differ from the preliminary results. The final weighted-average dumping margin for the reviewed firm is listed below in the section entitled “Final Results of Review.”

EFFECTIVE DATE: January 31, 2001.

FOR FURTHER INFORMATION CONTACT: Robert Bolling or Rick Johnson, Enforcement Group III, Office 9, Import Administration, International Trade Administration, U.S. Department of Commerce, 1401 Constitution Avenue, N.W., Washington, D.C. 20230, telephone: (202) 482-3434, and (202) 482-3818, respectively.

SUPPLEMENTARY INFORMATION:

Applicable Statute

Unless otherwise indicated, all citations to the Tariff Act of 1930 (“Act”) are references to the provisions effective January 1, 1995, the effective date of the amendments made to the Act by the Uruguay Round Agreements Act (“URAA”). In addition, unless otherwise indicated, all citations to the Department's regulations are to the regulations at 19 CFR Part 351 (2000).

Background

The Department published in the Federal Register an antidumping duty order on glycine from the PRC on March 29, 1995 (60 FR 16116). On September 30, 1999, the Department received a request from Nantong Dongchang Chemical Industry Corporation (“Nantong”) for a new shipper review pursuant to section 751(a)(2)(B) of the Act and section 351.214(b) of the Department's regulations. These provisions state that, if the Department receives a request for review from an exporter or producer of the subject merchandise which states that it did not export the merchandise to the United States during the period covered by the original less-than-fair-value (“LTFV”) investigation and that such exporter or producer is not affiliated with any exporter or producer who exported the subject merchandise during that period, the Department shall conduct a new shipper review to establish an individual weighted-average dumping margin for such exporter or producer who exported, if the Department has not previously established such a margin for the exporter or producer. The regulations require that the exporter or producer shall include in its request, with appropriate certifications: (1) The date on which the merchandise was first entered, or withdrawn from the warehouse, for consumption, or, if it cannot certify as to the date of the first entry, the date on which it first shipped the merchandise for export to the United States, or if the merchandise has not yet been shipped or entered, the date of sale; (2) a list of the firms with which it is affiliated; (3) a statement from such exporter or producer, and from each affiliated firm, that it did not, under its current or a former name, export the merchandise during the POI, and (4) in an antidumping proceeding involving inputs from a nonmarket economy country, a certification that the export activities of such exporter or producer are not controlled by the central government. See 19 CFR 351.214(b)(2)(ii), (iii), and (iv).

Nantong's request was accompanied by information and certifications establishing the date on which it first shipped the subject merchandise. Nantong also claimed it had no affiliated companies which exported glycine from the PRC during the POI. In addition, Nantong certified that its export activities are not controlled by the central government. Based on the above information, the Department initiated a new shipper review covering Nantong (see Glycine from the People's Republic of China: Initiation of New Shipper Administrative Review (64 FR 61834, November 15, 1999)). Due to extraordinarily complicated issues in this case, the Department extended the deadline for completion of the preliminary results of the new shipper review, first on April 17, 2000 (see Notice of Extension of Time Limit for Preliminary Results of New Shipper Antidumping Review: Glycine from the People's Republic of China, 65 FR 20431), and then on May 26, 2000 (see Notice of Extension of Time Limit for Preliminary Results of New Shipper Antidumping Review: Glycine from the People's Republic of China, 65 FR 34147). Additionally, due to complicated issues in this case, the Department extended the deadline for completion of the final results of the new shipper review, to January 24, 2001 (see Notice of Extension of Time Limit for Final Results of New Shipper Antidumping Review: Glycine from the People's Republic of China, 65 FR 70549, November 24, 2000). The Department has now completed this administrative review in accordance with section 751 of the Act.

Scope of the Review

The product covered by this review is glycine, which is a free-flowing crystalline material, like salt or sugar. Glycine is produced at varying levels of purity and is used as a sweetener/taste enhancer, a buffering agent, reabsorbable amino acid, chemical intermediate, and a metal complexing agent. Glycine is currently classified under subheading 2922.49.4020 of the Harmonized Tariff Schedule of the United States (“HTSUS”). This proceeding includes glycine of all purity levels. Although the HTSUS subheading is provided for convenience and Customs purposes, the written description of the scope of this review is dispositive. This review covers the period March 1, 1999 through August 31, 1999.

Separate Rates

In the preliminary results, the Department determined that Nantong was entitled to a separate rate. No interested party contested our finding during our briefing stage of this proceeding. Therefore, for the final results, we continue to determine that Nantong is entitled to a separate rate.

Normal Value Comparisons

To determine whether respondent's sales of the subject merchandise to the United States were made at Normal Value (“NV”), we compared its United States price to NV, as described in the “United States Price” and “Normal Value” sections of this notice.

United States Price

For the final results, we calculated United States price as we did in the preliminary results. No interested party contested our finding during our briefing stage of this proceeding.

Normal Value

For the final results, we calculated NV as we did in the preliminary results, except for the changes we made based on interested party comments. See Changes Since the Preliminary Results section of this notice for a brief description of our changes.

Currency Conversion

We made currency conversions in accordance with section 773A of the Act based on the rates certified by the Federal Reserve Bank.

Analysis of Comments Received

All issues raised in the case and rebuttal briefs by parties this new shipperr administrative review are addressed in the “Issues and Decision Memorandum” (“Decision Memorandum”) from Joseph A. Spetrini, Deputy Assistant Secretary, Import Administration, to Bernard T. Carreau, Acting Assistant Secretary for Import Administration, dated January 24, 2001, which is hereby adopted by this notice. A list of the issues which parties have raised and to which we have responded, all of which are in the Decision Memorandum, is attached to this notice as an Appendix. Parties can find a complete discussion of all issues raised in this review and the corresponding recommendations in this public memorandum which is on file at the U.S. Department of Commerce, in the Central Records Unit, in room B-099. In addition, a complete version of the Decision Memo, accessible in B-099 and on the web at http://ia.ita.doc.gov. The paper copy and electronic version of the Decision Memorandum are identical in content.

Changes Since the Preliminary Results

Based on our analysis of comments received, we have made changes to the margin calculation. For the final results, we have made the following three changes: (1) We have corrected our formula to calculate methyl alcohol in our calculation worksheet; (2) we have corrected our worksheet by calculating a weighted average for chloroacetic acid (“MCA”), and have used the full range of MCA import prices from Chemical Weekly for the POR to value MCA; and (3) we used the surrogate value information on hexamine for the POR from the “General Market Information” of Chemical Weekly. Any alleged programming or clerical errors with which we do not agree are discussed in the relevant sections of the “Decision Memorandum,” accessible in B-099 and on the Web at http://ia.ita.doc.gov.

Final Results of Review

We determine that the following percentage weighted-average margin exists for the period March 1, 1999 through August 31, 1999:

Glycine
Producer/manufacturer/exporter | Weighted-average margin (percent)
Nantong Dongchang Chemical Industry Corp | 17.99

The Department shall determine, and the U.S. Customs Service (“Customs”) shall assess, antidumping duties on all appropriate entries. In accordance with 19 CFR 351.212(b), we have calculated exporter/importer-specific assessment rates. We divided the total dumping margins for the reviewed sales by the total entered value of those reviewed sales for each importer. We will direct Customs to assess the resulting percentage margin against the entered Customs values for the subject merchandise on each of that importer's entries under the relevant order during the review period.

Cash Deposit Requirements

The following deposit requirements will be effective upon publication of this notice of final results of the new shipper administrative review for all shipments of glycine from the People's Republic of China entered, or withdrawn from warehouse, for consumption on or after the date of publication, as provided by section 751(a)(1) of the Act: (1) The cash deposit rate for the reviewed company will be the rate shown above; (2) the cash deposit rate for PRC exporters who received a separate rate in a prior segment of the proceeding but for whom a review was not requested for this POR will continue to be the rate assigned in that segment of the proceeding; (3) the cash deposit rate for the PRC NME entity (i.e., all other exporters, which have not been reviewed) will continue to be 155.89 percent; and (4) the cash deposit rate for non-PRC exporters of subject merchandise from the PRC will be the rate applicable to the PRC supplier of that exporter.

These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and in the subsequent assessment of doubled antidumping duties.

This notice also serves as the only reminder to parties subject to administrative protective orders (“APO”) of their responsibility concerning the return or destruction of proprietary information disclosed under APO in accordance with 19 CFR 351.305 or conversion to judicial protective order is hereby requested. Failure to comply with the regulations and terms of an APO is a violation which is subject to sanctions.

We are issuing and publishing this determination and notice in accordance with sections 751(a)(1) and 777(i) of the Act.

Dated: January 24, 2001.
Bernard T. Carreau,
Acting Assistant Secretary for Import Administration.

Appendix

Changes Since the Preliminary Results

1. Methyl Alcohol

2. Chloroacetic acid (“MCA”)

3. Hexamine

Discussion of the Issues

1. Factors of Production

a. Choloracetic Acid

b. Hexamine

c. The Valuation of Water

d. Electricity

e. Coal

f. SG&A, Overhead, and Profit

2. Other Issues

a. Eligibility for a New Shipper Review

b. No Sales and Entries during the POR

c. Ministerial Errors

[FR Doc. 01-2688 Filed 1-30-01; 8:45 am]

BILLING CODE 3510-DS-P